ENVIRONMENTAL PROTECTION AGENCY

40 CFR Part 180

[EPA-HQ-OPP-2012-0001; FRL-9376-3]

Withdrawal of Pesticide Petitions for Residues of Pesticide Chemicals in or on Various Commodities

AGENCY: Environmental Protection Agency (EPA).

ACTION: Notice of withdrawal of pesticide petitions.

SUMMARY: This document announces the withdrawal of pesticide petitions requesting the establishment or modification of regulations for residues of pesticide chemicals in or on various commodities. The petitions were either withdrawn voluntarily by the petitioners or administratively by the Agency.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

Although this action only applies to the petitioners in question, it is directed to the public in general. Since various individuals or entities may be interested, the Agency has not attempted to describe all the specific entities that may be interested in this action. If you have any questions regarding this action, please consult the person listed at the end of the withdrawal summary for the pesticide petition of interest.

B. How can I get copies of this document and other related information?

The docket for this action, identified by docket identification (ID) number EPA-HQ-OPP-2012-0001, is available at http://www.regulations.gov or at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

EPA is announcing the withdrawal of pesticide petitions received under section 408 of the Federal Food, Drug, and Cosmetic Act (FFDCA), 21 U.S.C. 346a, requesting the establishment or modification of regulations in 40 CFR part 180 for residues of pesticide chemicals in or on various food commodities.

Pursuant to 40 CFR 180.7(f), a summary of each of the petitions covered by this document, prepared by the petitioner, was included in a docket EPA created for each rulemaking. The docket for each of the petitions is available online at http://www.regulations.gov.

Withdrawals by Petitioners

1. PP 0E7754 (Gentamicin). EPA issued a notice in the Federal Register of July 6, 2011 (76 FR 39358) (FRL-8875-6) (EPA-HQ-OPP-2010-0820), which announced the filing of a pesticide petition (PP 0E7754) by Quimica Agronomica de Mexico, S. de R.L. MI., Calle 18 N[deg] 20501, Colonia Impulso, C.P. 31183, Chihuahua, Chih., Mexico c/o Gowan Company, P.O. Box 5569, Yuma, AZ 85366. The petition proposed to establish a tolerance in 40 CFR 180.642 for residues of the fungicide gentamicin, in or on cucurbits (crop group 9) at 0.05 parts per million (ppm) and fruiting vegetables (crop group 8) at 0.05 ppm. On June 18, 2012, Gowan Company (U.S. agent on behalf of Quimica Agronomica de Mexico) notified EPA that it was withdrawing this petition. Contact: Shaunta Hill, (703) 347-8961, email address: hill.shaunta@epa.gov.

2. PP 0E7755 (Oxytetracycline). EPA issued a notice in the Federal Register of September 23, 2010 (75 FR 57942) (FRL-8845-4) (EPA-HQ-OPP-2010-0740), which announced the filing of pesticide petition (PP 0E7755) by Quimica Agronomica de Mexico, S. de R.L. MI., Calle 18 N 20501, Colonia Impulso, C.P. 31183, Chihuahua, Chih., Mexico. The petition proposed to establish a tolerance in 40 CFR 180.337 for residues of the fungicide oxytetracycline, in or on cucurbits, crop group 9; and fruiting vegetables, crop group 8 at 0.03 ppm. On June 18, 2012, Gowan Company (U.S. agent on behalf of Quimica Agronomica de Mexico) notified EPA that it was withdrawing this petition. Contact: Heather Garvie, (703) 308-0034, email address: garvie.heather@epa.gov.

3. PP 1F7887 (Phosphine). EPA issued a notice in the Federal Register of October 5, 2011 (76 FR 61649) (FRL-8890-5) (EPA-HQ-OPP-2011-0741), which announced the filing of a pesticide petition (PP 1F7887) by Cytec Industries, Inc., 5 Garret Mountain Plaza, Woodland Park, NJ 07424. The petition proposed to establish tolerances in 40 CFR 180.225 for residues of phosphine, in or on asparagus; cherimoya; dates, fresh; figs, fresh; globe artichokes; pawpaws; pineapple, water chestnuts and watercress, and for all fresh fruit and vegetable crop groups (including berry and small fruit; citrus fruit; pome fruit; stone fruit; herbs and spices; Brassica leafy vegetables; leafy vegetables; bulb vegetables; cucurbits; fruiting vegetables except cucurbits; legume vegetables, except soybeans; foliage of legume vegetables; root and tuber group; and root and tuber leaves group) at 0.01 ppm. On April 5, 2012, Cytec Industries notified EPA that it was withdrawing the petition. Contact: Gene Benbow, 703-347-0235, email address: benbow.gene@epa.gov.

4. PP 4F4281 (Iprodione). EPA issued a notice in the Federal Register of August 2, 2006 (71 FR 43760) (FRL-8082-8) (EPA-HQ-OPP-2006-0637), which announced the filing of pesticide petition (PP 4F4281) by Bayer CropScience, Research Triangle Park, North Carolina 27709. The petition proposed to establish a tolerance for iprodione, [3-(3,5-dichlorophenyl)-N-(1-methylethyl)-2,4- dioxo-1-imidazolidinecarboxamide, its isomer 3-(1-methylethyl)-N-(3,5- dichlorophenyl)-2,4-dioxo-1-imidazolidinecarboxamide, and its metabolite 3-(3,5-dichlorophenyl)-2,4-dioxo-1-imidazolidinecarboxamide in or on the food commodity rapeseed (canola) at 1.0 ppm. On March 7, 2012, Bayer Crop Science, notified EPA that it was withdrawing its petition. Contact: Tamue L. Gibson, (703) 305-9096, email address: gibson.tamue@epa.gov.

5. PP 9F7565 (Iprodione). EPA issued a notice in the Federal Register of September 4, 2009 (74 FR 45848) (FRL-8434-4) (EPA-HQ-OPP-2009-0550), which announced the filing of pesticide petition (PP 9F7565) by Devgen US, Inc., 413 McFarlan Road, Suite B, Kennett Square, PA 19348, which proposed to establish a tolerance in 40 CFR 180.399 for residues of iprodione, in or on cucurbit crop group at 0.3 ppm; and fruiting vegetables, except cucurbits at 2.0 ppm. On June 22, 2012, Devgen US, Inc., notified EPA that it was withdrawing its petition. Contact: Tamue L. Gibson, (703) 305-9096, email address: gibson.tamue@epa.gov.

6. PP 2E7993 (Ethephon). EPA issued a notice in the Federal Register of May 23, 2012 (77 FR 30481) (FRL-9347-8) (EPA-HQ-OPP-2012-0241), which announced the filing of pesticide petition (PP 2E7993) by Interregional Research Project Number 4 (IR-4), 500 College Road East, Suite 201 W, Princeton, NJ 08540. The petition proposed to increase a tolerance in 40 CFR 180.300 for residues of the plant regulator ethephon in or on tomato from 2.0 ppm to 3.5 ppm. On January 3, 2013, IR-4 notified EPA that it was withdrawing this petition. Contact: Andrew Ertman, (703) 308-9367, email address: ertman.andrew@epa.gov.

List of Subjects in 40 CFR Part 180

Environmental protection, Agricultural commodities, Feed additives, Food additives, Pesticides and pests, Reporting and recordkeeping requirements.

Dated: January 23, 2013.
Lois Rossi,
Director, Registration Division, Office of Pesticide Programs.

[FR Doc. 2013-02009 Filed 1-29-13; 8:45 am]

BILLING CODE 6560-50-P